DEPARTMENT OF TRANSPORTATION

Office of the Secretary

49 CFR Part 71

[OST Docket No. OST-2001-10287]

RIN 2105-AD03

Relocation of Standard Time Zone Boundary in the State of North Dakota: Morton County

AGENCY: Office of the Secretary, DOT.

ACTION: Final rule.

SUMMARY: The Department of Transportation (DOT) is moving all of Morton County, North Dakota to the central time zone. Prior to this action, the eastern portion of the county was in central time and the western portion was in mountain time. This action is taken in response to a petition filed by the Board of County Commissioners and based on extensive comments made at a public hearing and filed in the docket.

DATES: The effective date of this rule is 2 a.m. MDT Sunday, October 26, 2003.

FOR FURTHER INFORMATION CONTACT: Joanne Petrie, Office of the Assistant General Counsel for Regulation and Enforcement, U.S. Department of Transportation, Room 10424, 400 Seventh Street, SW., Washington, DC 20590, (202) 366-9315 or by e-mail at joanne.petrie@ost.dot.gov.

Electronic Access

You can view and download this document by going to the webpage of the Department's Docket Management System (http://dms.dot.gov/). On that page, click on “search.” On the next page, type in the last five digits of the docket number shown on the first page of this document. Then click on “search.” Using a computer modem, and suitable communications software from the Government Printing Office's Electronic Bulletin Board Service at (202) 512-1661 also may download an electronic copy of this document. Internet users may reach the Office of Federal Register's home page at http://www.nara.gov/fedreg and the Government Printing Office's database at http://www.access.gpo.gov/nara/index.html.

SUPPLEMENTARY INFORMATION:

Background

Legal Requirements

Under the Uniform Time Act of 1918, as amended, (15 U.S.C. 260-264), either the Secretary of Transportation or Congress may move a time zone boundary in the United States. The current boundaries are set forth in regulations that are found in 49 CFR part 71.

DOT has issued guidance to communities concerning how to begin a rulemaking proceeding to change a time zone boundary. This guidance, which is non-binding, recommends that the highest governmental body representing the area affirmatively ask DOT to make the change. Depending on the area in question, the highest governmental body may be the town or county representatives, or the Governor or State legislature. We presume that this group represents the views of the community. We do not require that the community conduct a vote or referendum on this issue. We solicit the views of all interested parties, not just individuals and businesses in the affected area.

15 U.S.C. 261 states that the standard for making this decision is “regard for the convenience of commerce and the existing junction points and division points of common carriers engaged in interstate or foreign commerce.” In order to determine what decision would support “the convenience of commerce,” the Department looks at a wide variety of factors about how the potential change would affect the community and surrounding areas.

Time zone boundaries were originally set up in the late 1800s. Although they were based on geographic considerations (i.e., the sun should be more or less overhead at noon), the exact boundary was set largely based on the convenience of commerce and the needs of the railroads. In addition, geographic boundaries, such as mountains and rivers, also play a role. Therefore, it is reasonable to expect variation in the time zone boundary alignment. In North Dakota, the western time zone boundary between central and mountain time extends to the North Dakota-Montana border in the north of the State near Williston and has largely followed natural boundaries such as Lake Sakakawea and the Missouri River. In recent years, however, there have been a number of requests by counties west of the river to change to central time. DOT changed Oliver County in 1992, and is currently considering requests from Sioux and Mercer Counties to move their time zone boundaries.

Currently, Morton County is one of the few counties in the United States split by a time zone boundary. The eastern portion of the county, which includes the county seat and largest city in the county (Mandan) is on central time. The western portion of the county, which is more rural, is on mountain time. The counties bordering Morton County are split between central and mountain time observance. Oliver County, Burleigh County (which includes the major city in the area, Bismarck), Emmons County, portions of Sioux County, and the Standing Rock Sioux Reservation all observe central time. Grant County, Hettinger County, Stark County, and Mercer County observe mountain time.

History of This Proceeding

In a petition dated April 9, 2001, the Chairman of the Board of County Commissioners for Morton County asked the Department of Transportation to move the western portion of Morton County, North Dakota, from the mountain time zone to the central time zone. In support of the petition, the Chairman noted the following factors:

“The City of Mandan is the largest city in Morton County (with over 66% of the county's population according to the 2000 Census) and operates on Central Time. Virtually all the supplies for the balance of the county come out of Mandan or Bismarck, North Dakota, which is in the central time zone.

Virtually all county residents travel to Mandan or Bismarck for medical services, shopping, entertainment, or to do business with county or state government.

Commercial airline services are based in Bismarck, North Dakota and require county residents to travel there to catch flights to other parts of the United States.

Most all television and radio stations broadcast from Mandan or Bismarck and the only daily newspaper in the area is published in Bismarck, North Dakota which is just across the Missouri River from Mandan.

The County Commissioners put the time issue to a straw vote in the June 13, 2000 Primary Election. Only the five (5) precincts that operated on mountain time voted on the time issue, Yes 625, No 572. There are twelve precincts in the county on central time. The commission held a meeting on the time issue in July 2000 and only one (1) person showed up to request the balance of the county in Mountain Time Zone. March 6, 2001 the commission held another meeting on the time issue based on the people wanting the commission to request the time change for the balance of the county. 46 persons attended the meeting with 28 expressing their opinion favoring to change the entire county to the Central Time Zone and 18 expressing their opinion that they wished to keep the balance of the county in the Mountain Time Zone. Most all the people that attended the meeting were from the precincts voting in the June 13, 2000 Primary Election.

Geographically, Morton County is well suited to be in the Central Time Zone. Oliver County directly north of us operates in Central Time Zone and Mercer County north and west of us is considering changing to Central Time zone.”

On August 3, 2001, the Department published a notice of proposed rulemaking (66 FR 40666) announcing the proposed change and inviting public comment. A DOT representative conducted a hearing in New Salem, ND, on August 28, 2001. The hearing was attended by over 100 people and lasted several hours. The DOT representative tried to gauge the position of the attendees by an informal show of hands during the hearing. By show of hands, sixty were in favor of central time and fifty-four people were in favor of mountain time.

The NPRM also invited the public to submit written comments to the docket. There were over seventy submissions to the docket. The submissions included detailed letters, one form letter submitted by twelve people, and short messages expressing a preference for either the central or mountain time zone. We appreciate the time and effort of the people who expressed their opinion at the public meeting and through written comments, and who provided the factual basis upon which to make a decision.

Comments

Those in favor of mountain time noted that, based on the sun, Morton County is appropriately in the mountain time zone. These commenters observed that if the change were made, there would be very late sunrises and sunsets, and that the sun would not be overhead at noon. Several ranchers and farmers stated their belief that mountain time made it easier to do their chores and outdoor activities.

Others stated that they were not confused or inconvenienced by the present observance and had never missed an appointment in their impressively long lives. Some said, “if it ain't broke, don't fix it.” A number of people that live in the far west and south of the county noted that they were more tied to neighboring counties on mountain time than areas to the east. Others noted that a change would simply shift the inconvenience of living on a time zone boundary to their neighbors to the west.

A number of parents and grandparents noted the danger of sending children to school on icy or snowy, rural schools before sunrise, and before adequate plowing or road treatment. A few anticipated that later sunsets would interfere with serving dinner and getting young children to sleep.

A number of people expected adverse impacts on education and schools, if the change were made. For example, several discussed local schools' reliance on interactive instructional television and voiced their concern that a change would adversely impact class scheduling. Others discussed school sports events and the potential difficulties in scheduling both students and parents.

Several commenters noted that they use the current time boundary to their advantage. For example, one can schedule early medical appointments in Bismarck and get home before school starts. Others are able to participate in more community or school activities because they work in central time and get home an hour earlier than they would if they also lived in central time. A number of commenters expressed a strong personal preference for mountain time and said it just worked better for them.

Those in favor of central time had equally articulate, and passionate, reasons for their position. In general, all of these commenters stressed their reliance on services and activities located in Bismarck and Mandan. They noted the county seat is in Mandan and that one needed to go to the central time zone for most county, state, and court services. Many of these commenters noted that they generally go to the central time zone for shops, farm supplies and equipment, medical services (including the major hospital and various clinics), and entertainment. The major daily newspaper and most radio and television stations come from Bismarck. The major airport in the area is in Bismarck.

A number of commenters focused on how the current time observance impacts business. These commenters focused on problems caused by miscommunication, lost time because of different office and lunch hours across time zones, and the need to continually clarify whether appointments are on central or mountain time. One commenter noted that the de facto standard for business in the county is central time. Several ranchers and farmers stated that central time would be more convenient and efficient for their work.

Many commenters noted their personal preference for central time and gave detailed explanations about how a change would make their lives easier and less confusing. Some of these commenters live far west or south in the county, and include ranchers and farmers. Several commenters noted that, for all practical purposes, most people in Morton County already live their lives on central time.

There were several comments that central time would benefit students and schools. One commenter noted that most interactive television programming comes from Bismarck. Others noted that most higher education institutions are in the central zone. One commenter noted that the impact on sport scheduling could be beneficial if a change were made.

The Decision

We find that it would suit the “convenience of commerce” to move the western portion of Morton County from the mountain to the central time zone. Based on the facts presented, the county is very reliant on areas in the central time zone, especially Bismarck and Mandan to provide a majority of goods and services. Having the entire county in one time zone would reduce confusion and would make the boundary more understandable.

Other Issues

A number of commenters suggested that the time zone boundary be moved to the Montana border in order to order to end confusion over time observance in the State. Several noted that the time zone boundary between central and mountain time already extends to the Montana-North Dakota border in the northern part of the State and noted that it works well. This broader request is outside the scope of this present proceeding. In order to consider a change to additional counties, we would need an official request by the County Commissioners of the affected counties, the Governor, or the North Dakota legislature.

A few commenters also asked us to end daylight saving time observance in the State. That issue is also outside the scope of this rulemaking. Under the Uniform Time Act, a State is free to observe, or not observe, daylight saving time. If it chooses to observe, it must begin and end its observance on the federally-mandated dates. Commenters that wish to be exempted from daylight saving time should explore this option with their state representatives.

Regulatory Analysis and Notices

This rule is not a “significant regulatory action” under section 3(f) of Executive Order 12866 and has not been reviewed by the Office of Management and Budget. It is not “significant” under the regulatory policies and procedures of the Department of Transportation (DOT) (44 FR 11040, February 26, 1979.) We expect the economic impact of this rule to be so minimal that a full regulatory analysis is unnecessary. The rule primarily affects the convenience of individuals in scheduling activities. By itself, it imposes no direct costs. Its impact is localized in nature.

Small Entities

Under the Regulatory Flexibility Act (5 U.S.C. 601-612), we considered whether this rule would have a significant economic impact on a substantial number of small entities. The term “small entities” comprises small business, not-for-profit organizations that are independently owned and operated and are not dominant in their fields, and governmental jurisdictions with populations of less than 50,000. This rule primarily affects individuals and their scheduling of activities. Although it will affect some small businesses, not-for-profits, and perhaps, several small governmental jurisdictions, it will not be a substantial number. In addition, the change should have little, if any, economic impact. I, therefore, certify under 5 U.S.C. 605(b) that this rule will not have a significant economic impact on a substantial number of small entities.

Collection of Information

This rule calls for no new collection of information under the Paperwork Reduction Act of 1995 (44 U.S.C. 3501-3520).

Federalism

We have analyzed this rule under Executive Order 12612 and have determined that this rule does not have sufficient implications for federalism to warrant consultation with State and local officials or the preparation of a federalism summary impact statement. The final rule has no substantial effects on the States, or on the current Federal-State relationship, or on the current distribution of power and responsibilities among the various local officials.

Unfunded Mandates

The Unfunded Mandates Reform Act of 1995 (2 U.S.C. 1531-1538) and Executive Order 12875, enhancing the Intergovernmental Partnership, (58 FR 58093; October 28, 1993) govern the issuance of Federal regulations that may result in the expenditure by State, local, and tribal governments or the private sector of $100 million or more in any one year (adjusted annually for inflation). This rule does not impose such a mandate.

Taking of Private Property

This rule does not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

This rule is not a major Federal action significantly affecting the quality of the human environment under the National Environmental Policy Act and, therefore, an environmental impact statement is not required.

List of Subjects in 49 CFR Part 71

Time zones.

For the reasons discussed above, the Office of the Secretary amends Title 49 part 71 to read as follows:

PART 71—[AMENDED]

1. The authority citation for part 71 continues to read:

Authority: Secs. 1-4, 40 Stat. 450, as amended; sec 1, 41 Stat. 1446, as amended; secs. 2-7, 80 Stat. 107, as amended; 100 Stat. 764; Act of Mar. 19, 1918, as amended by the Uniform Time Act of 1966 and Pub. L. 97-449, 15 U.S.C. 260-267; Pub. L. 99-359; Pub. L. 106-564, 15 U.S.C. 263, 114 Stat. 2811; 49 CFR 159(a), unless otherwise noted.

2. Paragraph (a) of § 71.5, Boundary line between central and mountain zones, is revised to read as follows:

§ 71.5 Boundary line between eastern and central zones.

(a) Montana-North Dakota. Beginning at the junction of the Montana-North Dakota boundary with the boundary of the United States and Canada southerly along the Montana-North Dakota boundary to the Missouri River; thence southerly and easterly along the middle of that river to the midpoint of the confluence of the Missouri and Yellowstone Rivers; thence southerly and easterly along the middle of the Yellowstone River to the north boundary of T. 150 N., R. 104 W.; thence east to the northwest corner of T. 150 N., R. 102 W.; thence south to the southwest corner of T. 149 N., R. 102 W.; thence east to the northwest corner of T. 148 N., R. 102 W.; thence south to the northwest corner of 147 N., R. 102 W.; thence east to the southwest corner of T. 148 N., R. 101 W., thence south to the middle of the Little Missouri; thence easterly and northerly along the middle of that river to the midpoint of its confluence with the Missouri River; thence southerly and easterly along the middle of the Missouri River to the midpoint of its confluence with the northern land boundary of Oliver County; thence, west along the northern county line to the northwest boundary; thence south along the western county line to the southwest boundary; thence west along the northern county boundary of Morton County; thence south along the western county line and then east and south along the southern county boundary to the intersection with the middle of the Missouri River; thence south and east along the middle of the Missouri River to the northern boundary of T. 130 N., R. 80 W.; thence west to the northwest corner of T. 130 N., R. 80 W.; thence south to the North Dakota-South Dakota boundary; thence easterly along that boundary to the middle of the Missouri River.

* * * * *

Issued in Washington, DC on July 11, 2003.
Norman Y. Mineta,
Secretary.

[FR Doc. 03-18610 Filed 7-21-03; 8:45 am]

BILLING CODE 4910-62-P